DEPARTMENT OF TRANSPORTATION

Pipeline and Hazardous Materials Safety Administration

Hazardous Materials: Notice of Application for Modification of Special Permit

AGENCY: Office of Hazardous Materials Safety, Pipeline and Hazardous Materials Safety Administration (PHMSA), DOT.

ACTION: List of Application for Modification of Special Permits

SUMMARY: In accordance with the procedures governing the application for, and the processing of, special permits from the Department of Transportation's Hazardous Material Regulations (49 CFR part 107, subpart B), notice is hereby given that the Office of Hazardous Materials Safety has received the applications described herein. This notice is abbreviated to expedite docketing and public notice. Because the sections affected, modes of transportation, and the nature of application have been shown in earlier Federal Register publications, they are not repeated here. Requests for modification of special permits (e.g. to provide for additional hazardous materials, packaging design changes, additional mode of transportation, etc.) are described in footnotes to the application number. Application numbers with the suffix “M” denote a modification request. These applications have been separated from the new application for special permits to facilitate processing.

DATES: Comments must be received on or before August 18, 2015.

Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington, DC or at http://regulations.gov.

This notice of receipt of applications for modification of special permit is published in accordance with Part 107 of the Federal hazardous materials transportation law (49 U.S.C. 5117(b); 49 CFR 1.53(b)).

Issued in Washington, DC, July 20, 2015.
Ryan Paquet,
Director, Approvals and Permits Division.

Application No. | Docket No. | Applicant | Regulation(s) affected | Nature of special permits thereof
MODIFICATION SPECIAL PERMITS
8009-M |  | FIBA Technologies, Inc. (FIBA) Littleton, MA | 49 CFR 173.301(d) (2); 173.302(a)(3), 178.37-5 | To modify the special permit to remove the requirement to mark the special permit number on small cylinders that are heat treated in a continuous furnace and add railfreight and cargo vessel as additional modes of transportation.
11650-M |  | Autoliv ASP, Inc. Ogden, UT | 49 CFR 173.301(a) (1), and 173.302a(a) | To modify the special permit to authorize an increase in maximum service pressure.
11924-M |  | Packgen Corporation Auburn, ME | 49 CFR 173.12(b)(2)(i) | To modify the special permit to allow specific IBCs to be used as outer packaging for lab pack applicants.
14791-M |  | Heliqwest International Inc. Montrose, CO | 49 CFR 172.101 HMT Column (9B), 172.200, 172.300, 172.400 | To modify the special permit to remove the requirement for having two pilots aboard any multi-engine aircraft carrying explosives.
15547-M |  | Southern California Edison (SCE) Chino, CA | 49 CFR 172.101 Column (9B), 172.204(c)(3), 173.27(b)(2) and 175.30(a)(1) in that the explosives are forbidden by cargo aircraft | To modify the special permit by updating certaininformation and adding additional hazardous materials.
15583-M |  | Northern Air Cargo Inc | 49 CFR 172.101 Column (9B) | To modify the special permit by adding the following paragraph in 7(g)(3) “or alternatively—FAA-assigned Principal Operations or Maintenance Program”.
15628-M |  | Chemours Company FC, LLC. Wilmington, DE | 49 CFR 179.100-12(c) | To modify the special permit to authorize an additional hazardous material.
15793-M |  | Northern Air Cargo Inc. Anchorage, AK | 49 CFR 172.101 Column (9B) | To modify the special permit by adding the following in paragraph 7.(g)(3) “or alternatively—FAA-assigned Principal Operations or Maintenance Program”.
16170-M |  | Hydro Stat LLC Holly, MI | 49 CFR 180.213(b)(2) | To reissue the special permit that was originally issued on an emergency basis with a two year renewal.
16219-M |  | Structural Composites Industries (SCI) Pomona, CA | 49 CFR 173.302a and 173.304a | To reissue the special permit that was originally issued on an emergency basis with a two year renewal.
16427-M |  | Washington Department of Transportation, Ferries Division Seattle, WA | 49 CFR 172.101 Hazardous Materials Table Column (10A), stowage categories “01”, “02”, “04”, and “05” | To reissue the special permit that was originally issued on an emergency basis with a two year renewal.

[FR Doc. 2015-18719 Filed 7-31-15; 8:45 am]

BILLING CODE 4910-60-M